ENVIRONMENTAL PROTECTION AGENCY

[FRL-7482-9]

Agency Information Collection Activities: Proposed Collection; Comment Request; Drinking Water Regulations Compliance and Cost Retrospective Survey

AGENCY: Environmental Protection Agency.

ACTION: Notice.

SUMMARY: In compliance with the Paperwork Reduction Act (44 U.S.C. 3501 et seq.), this notice announces that the Environmental Protection Agency (EPA) is planning to submit the following proposed Information Collection Request (ICR) to the Office of Management and Budget (OMB): Drinking Water Regulations Compliance and Cost Retrospective Survey (EPA ICR No. 2101.01). Before submitting the ICR to OMB for review and approval, EPA is soliciting comments on specific aspects of the proposed information collection as described as follows.

DATES: Comments must be submitted on or before June 13, 2003.

ADDRESSES: Comments may be submitted electronically, by mail, or through hand delivery/courier. Send comments to Water Docket, Environmental Protection Agency, Mail Code 4101T, 1200 Pennsylvania Ave., NW., Washington, DC, 20460, Attention Docket ID No. OW-2002-0051. Follow the detailed instructions as provided in section I.C. of the SUPPLEMENTARY INFORMATION section.

FOR FURTHER INFORMATION CONTACT: John Bennett of the EPA Office of Ground Water and Drinking Water at (202) 564-4690, or by facsimile: (202) 564-3760, or e-mail: bennett.johnb@epa.gov. For general information, contact the Safe Drinking Water Hotline, (800) 426-4791. The Safe Drinking Water Hotline is open Monday through Friday, excluding Federal Holidays, from 9 a.m. to 5:30 p.m.

SUPPLEMENTARY INFORMATION:

I. General Information

A. Does This Action Apply to Me?

You may be potentially affected by this action if you are a public water system. Public water systems are those systems that provide piped water for human consumption to at least 15 service connections or serve an average of at least 25 people for at least 60 days each year. Therefore, respondents will be both traditional water systems as well as water suppliers that do not supply water as their primary business. Potentially affected categories and entities may include, but are not limited to:

Type of business | NAICS code
Investor-Owned Water Systems | 22131
Publicly Owned Water Systems | 92411

This table lists the types of entities that EPA is now aware of that could potentially be affected. Other types of entities not listed in this table could also be affected. If you have questions regarding the applicability of this action to a particular entity, consult one of the persons listed in the preceding FOR FURTHER INFORMATION CONTACT section.

B. How Can I Get Copies of the ICR Supporting Statement and Other Related Information?

1. Docket. EPA has established an official public docket for this ICR under Docket ID No. OW-2002-0051. The official public docket consists of the documents specifically referenced in the ICR, any public comments received, and other information related to this ICR. Although a part of the official docket, the public docket does not include Confidential Business Information (CBI) or other information whose disclosure is restricted by statute. The official public docket is the collection of materials that is available for public viewing at the Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Office of Water Docket is (202) 566-2426.

2. Electronic Access. You may access this Federal Register document electronically through the EPA Internet under the Federal Register listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. Although not all docket materials may be available electronically, you may still access any of the publicly available docket materials through the docket facility identified in section I.B.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket identification number in the subject line on the first page of your comment. Please ensure that your comments are submitted within the specified comment period. Comments received after the close of the comment period will be marked “late.” EPA is not required to consider these late comments.

1. Electronically. If you submit an electronic comment as prescribed below. EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Docket at http://www.epa.gov/edocket, and follow the online instructions for submitting comments. Once in the system, select “search,” and then key in Docket ID No. OW-2002-0051. The system is an “anonymous access” system, which means EPA will not know your identity, e-mail address, or other contact information unless you provide it in the body of your comment.

ii. E-mail. Comments may be sent by electronic mail (e-mail) to OW-Docket@epa.gov, Attention Docket ID No. OW-2002-0051. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in section I.C.2. These electronic submissions will be accepted in WordPerfect or ASCII file format. Avoid the use of special characters and any form of encryption.

2. By Mail. Send an original and three copies of your comments to: Water Docket, Environmental Protection Agency, Mail Code: 4101T, 1200 Pennsylvania Ave., NW., Washington, DC, 20460, Attention Docket ID No. OW-2002-0051.

3. By Hand Delivery or Courier. Deliver your comments to: Water Docket, Environmental Protection Agency, EPA West, Room B102, 1301 Constitution Ave., NW., Washington, DC, Attention Docket ID No. OW-2002-0051. Such deliveries are only accepted during the Docket's normal hours of operation as identified in Section I.B.1.

D. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. What Information Collection Activity or ICR Does This Action Apply to?

EPA is seeking comments on the following ICR:

Title: Drinking Water Regulations Compliance and Cost Retrospective Survey (EPA ICR No. 2101.01).

Abstract: The Safe Drinking Water Act (SDWA) (1412(b)) requires EPA to analyze the costs related to the promulgation of drinking water regulations. Since the reauthorization of SDWA in 1996, EPA has proposed and promulgated national primary drinking water regulations for several contaminants. Each of these final and proposed rules has a supporting “Economic Analysis,” which includes an analysis of compliance costs. The cost analysis includes capital and operations and maintenance (O&M) costs for treatment and other compliance measures taken by systems with Maximum Contaminant Level (MCL) violations or from systems that are subject to treatment technique requirements, as well as costs related to start-up, training and monitoring for all regulated systems.

Key to the accurate estimation of costs is an understanding of the compliance decision process of Public Water Systems (PWS). In this survey, EPA's Office of Ground Water and Drinking Water (OGWDW) plans to collect information from PWSs on their compliance decisions and associated costs for a set of rulemakings. A compliance decision is a decision made in direct response to the implementation of a drinking water regulation to come into compliance with the regulation. Examples of compliance decisions include installing a new treatment technology; modifying an existing treatment technology; using a non-treatment approach; and, finding a new water source. EPA plans to collect information on which compliance alternatives were considered, and which were chosen from that set of alternatives, along with information on associated capital, operating and maintenance, and add-on costs. Responses are voluntary and will not be considered confidential. EPA plans to use the results of the survey to update its cost estimation process for future rulemakings.

The survey will target systems in two categories: systems which have had violations of one or more chosen rulemakings and systems which have not had violations (but have made compliance decisions to prevent a violation). An initial short survey will be used to identify a sample of systems that have made compliance decisions in response to the representative rulemakings without actually having been out of compliance. The full survey (including a pilot study phase) will be sent to these systems, as well as to a sample of systems that have recorded violations. We estimate that the initial survey (known as a screener survey, since it will identify respondents appropriate for the full survey) will provide data from 1,875 respondents indicating whether or not they made some type of compliance decision associated with the representative rulemakings. We estimate that the full survey (including a pilot study phase), sent to systems with and without recorded violations, will provide data from 718 respondents.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, via the use of appropriate automated electronic, mechanical, or other technological collection techniques or other forms of information technology, e.g., permitting electronic submission of responses.

III. What Are EPA's Burden and Cost Estimates for This ICR?

The following is a summary of the burden and cost estimates associated with this proposed information collection effort. Burden and cost estimates are taken from the ICR, which provides a detailed explanation of the burden estimates summarized in this notice. EPA anticipates that the only entities affected by this information request will be public water systems. The total number of estimated potential respondents is 1,875 for the screener survey and 718 for the full survey. Respondents to the screener survey will only have to respond to that survey once. Respondents to the full survey will only have to respond to the full survey once. Some respondents, however, will have to respond to both the screener survey and the full survey. EPA estimates that 1,567 respondents will respond once to the screener survey, 410 respondents will respond once to the full survey, and 308 respondents will respond once to both the screener survey and the full survey.

The annual public burden for this collection of information is estimated to average 0.25 hours per screener survey response; 1 hour per full survey response for small public water systems; 2 hours per full survey response for medium public water systems; and 3 hours per full survey response for large public water systems. The estimated total annual respondent burden for screener survey respondents is 469 hours with a current annual cost of $10,742; the estimated total annual respondent burden for full survey respondents is 1,304 hours with a current annual cost of $34,204. Total estimated annual respondent burden associated with the complete information collection effort is 1,773 hours with a current annual cost of $44,946.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 21, 2003.
Cynthia C. Dougherty,
Director, Office of Ground Water and Drinking Water.

[FR Doc. 03-9046 Filed 4-11-03; 8:45 am]

BILLING CODE 6560-50-P